DEPARTMENT OF TRANSPORTATION

Federal Highway Administration

Notice of Intent To Prepare an Environmental Impact Statement for a Multimodal Project in Allston, Massachusetts

AGENCY: Federal Highway Administration (FHWA), Department of Transportation.

ACTION: Notice of intent to prepare an Environmental Impact Statement (EIS).

SUMMARY: The FHWA is issuing this notice to advise the public that it is preparing an Environmental Impact Statement (EIS) in accordance with the National Environmental Policy Act (NEPA) for the Allston Multimodal Project sponsored by the Massachusetts Department of Transportation (MassDOT). MassDOT proposes to address roadway deficiencies of Interstate 90 in Allston, Massachusetts. The proposed project takes into consideration current transportation deficiencies, current and future transportation facility safety, multimodal mobility, and access to the Charles River Reservation within the project area.

FOR FURTHER INFORMATION CONTACT: Jeffrey McEwen, Division Administrator, Federal Highway Administration, 55 Broadway, 10th Floor, Cambridge, Massachusetts 02142, Phone: 617-494-1788. Michael O'Dowd, Acting Director of Bridge Project Management, Massachusetts Department of Transportation, 10 Park Plaza, Suite 6340, Boston, Massachusetts 02116, Phone: 857-368-9292.

SUPPLEMENTARY INFORMATION: The FHWA, in cooperation with the Massachusetts Department of Transportation, will prepare an Environmental Impact Statement (EIS) for the Allston Multimodal Project. The FHWA intends to issue a combined Final EIS/ROD document pursuant to 23 CFR 771.124, unless FHWA determines the regulatory criteria or practicability considerations preclude issuance of a combined document.

The purpose of the project is to address roadway deficiencies, address safety issues, improve mobility of Interstate 90 mainline and Interstate 90 interchanges 18, 19, and 20, and improve multimodal transportation access to and within the Charles River Reservation. Proposed improvements are needed within the project area due to existing roadway deficiencies which include a structurally deficient viaduct on the Interstate 90 mainline and substandard geometric elements on both the mainline and within the interchange; existing safety deficiencies which include substantially higher than average crash rates for the mainline and the interchange; existing mobility deficiencies which include a deficient level-of-service within the interchange, commuter rail limitations, lack of multimodal connections, and inadequate bicycle and pedestrian facilities; and limited multimodal access to the Charles River Reservation.

The EIS will evaluate a range of build alternatives and a no-build alternative. Possible build alternatives include improvements to the roadway network to incorporate improvements to transit, rail, bus, bicycle and pedestrian facilities.

The EIS will evaluate potential impacts from construction and operation of the proposed project, including, but not limited to, the following: Traffic impacts, air quality and noise impacts; water quality impacts including stormwater runoff; impacts to waters of the United States; impacts to floodplains; impacts to historic and archaeological resources; socio-economic impacts including environmental justice and limited English proficiency populations; impacts to land use, vegetation and wildlife; impacts to or potential displacement of residents and businesses; and impacts to aesthetic and visual resources. Anticipated state and Federal approvals may include, but are not limited to, the following: United States Army Corps of Engineers (USACE) Section 404 of the Clean Water Act permit, USACE Section 10 of the Rivers and Harbors Act Permit, United States Coast Guard (USCG) Section 9 Bridge Permit, Massachusetts Department of Environmental Protection (MassDEP) Section 401 Water Quality Certification, MassDEP Chapter 91 License, MassDEP Wetlands Protection Act Permit, Advisory Council on Historic Preservation (ACHP) Section 106 of the National Historic Preservation Act consultation, and Section 4(f) of the U.S. Department of Transportation Act evaluation. The project will comply with the Clean Air Act, Title VI of the Civil Rights Act, and Executive Order 12898 “Federal Actions to Address Environmental Justice in Minority Populations and Low-Income Populations” and other applicable state and Federal laws. Cooperating Agencies identified include the USACE, USCG, U.S. Department of Transportation's Federal Transit Administration, U.S. Environmental Protection Agency, MassDEP, and the Massachusetts Department of Conservation and Recreation.

Public involvement is a critical component of the project development process and will continue throughout the development of the EIS. All individuals and organizations expressing interest in the project will be able to participate in the process through various public outreach opportunities. These opportunities include, but are not limited to public meetings and hearing(s), the project website (https://www.mass.gov/allston-multimodal-project), and press releases. Public notice will be given of the time and place of all public meetings and hearing(s). To ensure that the full range of issues related to this proposed project are addressed, and all significant issues are identified, comments and suggestions are invited from all interested parties. Scoping input on the proposed project will be invited during the scoping review period and through public informational meetings, which will occur after release of the Scoping Report. Advanced notice of release of the Scoping Report and date, time and location of the public informational meetings will be provided to the public through the project website, public notices, and press releases. Such comments or questions concerning this notice, the scope of the EIS including the purpose and need, alternatives to be considered, and impacts to be evaluated may be submitted via the project website or in writing to FHWA or MassDOT at the addresses provided above.

Issued on: October 9, 2019.
Jeffrey McEwen,
Massachusetts Division Administrator, Federal Highway Administration.

[FR Doc. 2019-22796 Filed 10-15-19; 4:15 pm]

BILLING CODE 4910-22-P